DEPARTMENT OF TRANSPORTATION

Federal Aviation Administration

14 CFR Parts 1 and 93

[Docket No. FAA-2004-17005; Amdt. No. 1-63 and 93-90]

RIN 2120-AI17

Washington, DC Metropolitan Area Special Flight Rules Area; OMB Approval of Information Collection

AGENCY: Federal Aviation Administration, DOT.

ACTION: Change of OMB approval number for information collection.

SUMMARY: This document notifies the public of a change in the Office of Management and Budget's approval control number for certain information collection. The rule titled “Washington, DC Metropolitan Area Special Flight Rules Area” was published on December 16, 2008. At that time, the final rule identified OMB Control Number 2120-0706 as the approval document for the flight plans and other information collected under that rule. That information collection, however, is accounted for under OMB Control Number 2120-0026.

DATES: The rule, including the information collection requirements in §§ 93.335, 93.339, 93.341, and 93.343, became effective on February 14, 2009. This document announces that the OMB approval for Domestic and International Flight Plans, #2120-0026, accounts for the paperwork burden in that rule.

Contact for Further Information: For questions about this document, contact Ellen Crum, Airspace and Rules Group, Office of System Operations Airspace and AIM, 800 Independence Ave., SW., Washington, DC 20591; telephone (202) 267-8783.

SUPPLEMENTARY INFORMATION: On December 16, 2008, the final rule “Washington, DC Metropolitan Area Special Flights Rules Area” was published in the Federal Register (75 FR 76195). In that rule, the FAA codified special flight rules and airspace and flight restrictions for certain aircraft operations in the Washington, DC Metropolitan Area.

In the Paperwork Reduction Act section of the final rule, the FAA noted that the flight plans and other information collection that the rule required had been approved by OMB. It said that “OMB approved the collection of this information and assigned OMB Control Number 2120-0706.”

OMB information collection control #2120-0026 covers Domestic and International Flight Plans collection. Thus, the flight plans required for the Washington, DC Metropolitan Area Special Flight Rules Area are covered by information collection control #2120-0026. As a result, the FAA is withdrawing and discontinuing OMB control #2120-0706.

This document is being published to inform affected parties of this change.

Issued in Washington, DC, on June 7, 2011.
Dennis R. Pratte,
Acting Director, Office of Rulemaking.

[FR Doc. 2011-14552 Filed 6-13-11; 8:45 am]

BILLING CODE 4910-13-P